INTERNATIONAL TRADE COMMISSION

[Inv. No. 337-TA-664]

In the Matter of Certain Flash Memory Chips and Products Containing the Same Notice of Investigation

AGENCY: U.S. International Trade Commission.

ACTION: Institution of investigation pursuant to 19 U.S.C. 1337.

SUMMARY: Notice is hereby given that a complaint was filed with the U.S. International Trade Commission on November 17, 2008, under section 337 of the Tariff Act of 1930, as amended, 19 U.S.C. 1337, on behalf of Spansion, Inc. of Sunnyvale, California and Spansion LLC of Sunnyvale, California. The complaint alleges violations of section 337 based upon the importation into the United States, the sale for importation, and the sale within the United States after importation, of certain flash memory chips and products containing the same that infringe certain claims of U.S. Patent Nos. 6,380,029, 6,080,639, 6,376,877, and 5,715,194. The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Heidi E. Strain, Esq., Office of Unfair Import Investigations, U.S. International Trade Commission, telephone (202) 205-3352.

Authority: The authority for institution of this investigation is contained in section 337 of the Tariff Act of 1930, as amended, and in section 210.10 of the Commission's Rules of Practice and Procedure, 19 CFR 210.10 (2008).

Scope of Investigation: Having considered the complaint, the U.S. International Trade Commission, on December 11, 2008, ordered that—

(1) Pursuant to subsection (b) of section 337 of the Tariff Act of 1930, as amended, an investigation be instituted to determine whether there is a violation of subsection (a)(1)(B) of section 337 in the importation into the United States, the sale for importation, or the sale within the United States after importation, of certain flash memory chips or products containing the same that infringe one or more of claims 1-13 of U.S. Patent No. 6,380,029; claims 1-12 of U.S. Patent No. 6,080,639; claims 1-8 of U.S. Patent No. 6,376,877, and claims 13, 15-18, and 20-22 of U.S. Patent No. 5,715,194, and whether an industry in the United States exists as required by subsection (a)(2) of section 337;

(2) For the purpose of the investigation so instituted, the following are hereby named as parties upon which this notice of investigation shall be served:

(a) The complainants are—

Spansion, Inc., 915 DeGuigne Drive, P.O. Box 3453, Sunnyvale, California 94088.

Spansion LLC, 915 DeGuigne Drive, P.O. Box 3453, Sunnyvale, California 94088.

(b) The respondents are the following entities alleged to be in violation of section 337, and are the parties upon which the complaint is to be served:

Samsung Electronics Co., Ltd., 250, Taepyeongno 2-ga, Jung-gu, Seoul 100-742 South Korea.

Samsung Electronics America, Inc., 105 Challenger Road, Ridgefield Park, New Jersey 07660.

Samsung International, Inc., 10220 Sorrento Valley Road, San Diego, California 92121.

Samsung Semiconductor, Inc., 3655 North First Street, San Jose, California 95134.

Samsung Telecommunications America, LLC, 1301 East Lookout Drive, Richardson, Texas 75082.

Apple, Inc., 1 Infinite Loop, Cupertino, California 95014.

Hon Hai Precision Industry Co., Ltd., 2 Zihyou Street, Tucheng City, Taipei County, 236 Taiwan.

AsusTek Computer Inc., No. 15 Li-Te Road Beitou District, Taipei, Taiwan.

Asus Computer International Inc., 800 Corporate Way, Fremont, California 94539.

Kingston Technology Company, Inc., 17600 Newhope Street, Fountain Valley, California 92708.

Kingston Technology (Shanghai) Co. Ltd., Building 7, No. 308, Fen Ju Road, Wai Gao Qiao Free Trade Zone, Shanghai 200131, China.

Kingston Technology Far East Co., No. 1-5, Li-Hsin Road, I, Science Based Industrial Park, Hsin-Chu, Taiwan.

Kingston Technology Far East (Malaysia), Sdn Bhd, Plot 111-B Bayan Lepas Industrial Park, Lebuhraya Kampung Jawa, Bayan Legas 11900, Malaysia.

Lenovo Group Limited, 23rd Floor, Lincoln House, Taikoo Place, 979 King's Road, Quarry Bay, Hong Kong.

Lenovo (United States) Inc., 1009 Think Place, Morrisville, North Carolina 27560.

Lenovo (Beijing) Limited, No. 6 Chuang Ye Road, Shangdi Information Industry Base, Haidian District, Beijing, 100085 China.

International Information Products (Shenzhen) Co., Ltd., Great Wall Technology Building, Nanshan District Science & Technology Park, Shenzhen City, Guangdong Province 518057, China.

Lenovo Information Products (Shenzhen) Co., Ltd., Lenovo Research and Development Building, Nanshan District Science & Technology Park, Shenzhen City, Guangdong Province 518057, China.

Lenovo (Huiyang) Electronic Industrial Co., Ltd., Lenovo Science and Technology Park, Sun Town, Huiyang District, Huizhou City, Guangdong Province 516213, China.

Shanghai Lenovo Electronic Co., Ltd., No. 550 Jinhai Road, Jinqiao Export Processing Zone, Pudong New District, Shanghai 200233, China.

PNY Technologies, Inc., 299 Webro Road, Parsippany, New Jersey 07054-0218.

Research In Motion Ltd., 295 Phillip Street, Waterloo, Ontario, Canada N2L 3W8.

Research In Motion Corporation, 122 W. John Carpenter Parkway, Suite 430, Irving, Texas 75039.

Sony Corporation, 7-1, Konan 1-chome, Minato-ku, Tokyo 108-0075, Japan.

Sony Corporation of America, 550 Madison Avenue, 27th Floor, New York, New York 10022-3211.

Sony Ericsson Mobile Communication AB, Nya Vattentornet, SE-221 88 Lund, Sweden.

Sony Ericsson Mobile Communications (USA), Inc., 7001 Development Drive, Research Triangle Park, North Carolina 27709.

Beijing SE Putian Mobile Communication Co., Ltd., No. 20, Tianzhu West Road, Tianzhu Konggang, Industrial Park, Shunyi, Beijing, 101312 China.

Transcend Information Inc., No. 70, XingZhong Road, NeiHu District, Taipei, Taiwan.

Transcend Information, Inc. (US), 1645 North Brian Street, Orange, California 92867.

Transcend Information Inc. (Shanghai Factory), 4F, Kaixuan City Industrial Park, No. 1010, Kaixuan Road, Shanghai, China 200052.

Verbatim Americas LLC, 1200 West W.T., Harris Boulevard, Charlotte, North Carolina 28262.

Verbatim Corporation, 1200 West W.T., Harris Boulevard, Charlotte, North Carolina 28262.

(c) The Commission investigative attorney, party to this investigation, is Heidi E. Strain, Esq., Office of Unfair Import Investigations, U.S. International Trade Commission, 500 E Street, SW., Room 401, Washington, DC 20436; and

(3) For the investigation so instituted, Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: December 12, 2008.
By order of the Commission.
Marilyn R. Abbott,
Secretary to the Commission.

[FR Doc. E8-29955 Filed 12-17-08; 8:45 am]

BILLING CODE 7020-02-P